DEPARTMENT OF ENERGY

Federal Energy Regulatory Commission

[Docket No. RP02-227-000]

Midwestern Gas Transmission Company; Notice of Cashout Report

April 17, 2002.

Take notice that on April 12, 2002, Midwestern Gas Transmission Company (Midwestern) tendered for filing, its eighth annual cashout report for the September 2000 through August 2001 period.

Midwestern states that the cashout report reflects a cashout gain during this period of $102,441. Midwestern will credit this gain to its firm shippers in its next issuance of invoices.

Any person desiring to be heard or to protest said filing should file a motion to intervene or a protest with the Federal Energy Regulatory Commission, 888 First Street, NE., Washington, DC 20426, in accordance with sections 385.214 or 385.211 of the Commission's rules and regulations. All such motions or protests must be filed on or before April 24, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-9905 Filed 4-22-02; 8:45 am]

BILLING CODE 6717-01-P